DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: The American Community Survey.

OMB Control Number: 0607-0810.

Form Number(s): ACS-1, ACS-1(SP), ACS-1PR, ACS-1PR(SP), ACS-1(GQ), ACS-1(PR)(GQ), GQFQ, ACS CATI (HU), ACS CAPI (HU), ACS Reinterview (HU), GQ Reinterview.

Type of Request: Revision of a currently approved collection.

Burden Hours: 1,994,500.

Number of Respondents: 3,220,000.

Average Hours Per Response: Household Questionnaire—38 minutes; Group Quarters Facility Questionnaire—15 minutes; Group Quarters Individual Questionnaire—25 minutes; Reinterview—10 minutes.

Needs and Uses: The U.S. Census Bureau requests authorization from the Office of Management and Budget (OMB) to continue conducting the American Community Survey (ACS). The Census Bureau has developed a methodology to collect and update every year demographic, social, economic, and housing data that are essentially the same as the “long-form” data that the Census Bureau traditionally has collected once a decade as part of the decennial census. Federal and state government agencies use such data to evaluate and manage federal programs and to distribute funding for various programs that include food stamp benefits, transportation dollars, and housing grants. State, county, and community governments, nonprofit organizations, businesses, and the general public use information like housing quality, income distribution, journey-to-work patterns, immigration data, and regional age distributions for decision-making and program evaluation.

In years past, the Census Bureau collected the long-form data only once every 10 years, which become out of date over the course of the decade. To provide more timely data, the Census Bureau developed the ACS. The ACS blends the strength of small area estimation with the high quality of current surveys. There is an increasing need for current data describing lower geographic detail. The ACS is now the only source of data available for small-area levels across the Nation and in Puerto Rico. In addition, there is an increased interest in obtaining data for small subpopulations such as groups within the Hispanic, Asian, and American Indian populations, the elderly, and children. The ACS provides current data throughout the decade for small areas and subpopulations.

The ACS began providing up-to-date profiles in 2006 for areas and population groups of 65,000 or more people, providing policymakers, planners, and service providers in the public and private sectors with information every year—not just every 10 years. The ACS program will provide estimates annually for all states and for all medium and large cities, counties, and metropolitan areas. For smaller areas and population groups, it will take 3 to 5 years to accumulate information to provide accurate estimates. After that period of time, the multiyear estimates will be updated annually.

Using the Master Address File (MAF) from the decennial census that is updated each year, we will select a sample of addresses, mail survey forms each month to a new group of potential households, and attempt to conduct interviews over the telephone with households that have not responded. Upon completion of the telephone follow-up, we will select a sub-sample of the remaining households, which have not responded, typically at a rate of one in three, to designate a household for a personal interview. Census will also conduct interviews with a sample of residents at a sample of group quarters (GQ) facilities. Collecting these data from a new sample of housing unit (HU) and GQ facilities every month will provide more timely data and will lessen respondent burden in the 2010 Census.

Census will release a yearly microdata file, similar to the Public Use Microdata Sample file of the Census 2000 long-form records. In addition, we will produce total population summary tabulations similar to the Census 2000 tabulations down to the block group level. The microdata files, tabulated files, and their associated documentation are available through the Internet.

The goals of the ACS are to:

• Provide federal, state, and local governments an information base for the administration and evaluation of government programs;

• Improve the 2010 Census; and

• Provide data users with timely demographic, housing, social, and economic data updated every year that can be compared across states, communities, and population groups.

For the 2009 ACS, modified data collection materials based upon results of the 2007 ACS Content Test will be used. The content of the proposed 2009 ACS questionnaire and data collection instruments for both HU and GQ operations reflect 2007 tested changes to content, instructions, and forms design.

Census plan to add a new question on field of degree (FOD) of a person's bachelor's degree beginning in 2009. We also plan to reinstate a ‘duration of vacancy' question asked of contacts for vacant units during the non-response follow-up modes of data collection.

Affected Public: Individuals or households.

Frequency: Monthly.

Respondent's Obligation: Mandatory.

Legal Authority: Title 13 U.S.C., Sections 141, 193 and 221.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: May 22, 2008.
Gwellnar Banks,
Management Analyst, Office of the Chief Information Officer.

[FR Doc. E8-11858 Filed 5-27-08; 8:45 am]

BILLING CODE 3510-07-P